DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: 2013 Company Organization Survey.

OMB Control Number: 0607-0444.

Form Number(s): NC-99001, NC-99007.

Type of Request: Extension of a currently approved collection.

Burden Hours: 143,608.

Number of Respondents: 47,000.

Average Hours per Response: 3 hours and 3 minutes.

Needs and Uses: The Census Bureau requests an extension of the currently approved Company Organization Survey (COS) data collection for the 2013 survey year. We request an extension of the current expiration date to December 2014 to complete the data collection for the 2013 COS.

The Census Bureau conducts the annual COS to update and maintain a centralized, multipurpose Business Register (BR). In particular, the COS supplies critical information on the organizational structure, operating characteristics, and employment and payroll of multi-location enterprises.

Form NC-99001 is mailed to multi-location enterprises. We ask questions on ownership or control by a domestic parent, ownership or control by a foreign parent, and ownership of foreign affiliates; research and development; company activities such as—employees from a professional employer organization, operating revenue and net sales, royalties and license fees for the use of intellectual property and manufacturing activities. Establishment inquiries include questions on operational status, mid-March employment, first-quarter payroll, and annual payroll of establishments.

In 2011, we submitted a non-substantive change to the COS questionnaire. This revision added three new inquiries as part of the Enterprise Statistics Program (ESP). These three inquiries were: (1) Operating Revenues and Net Sales; (2) Royalties and Licenses Fees for the Use of Intellectual Property; and (3) Manufacturing Activities. In 2012 we continued to ask these questions on Form NC-99001 and it is our intention to continue to ask these additional questions for 2013 on Form NC-99001. We also ask questions on ownership or control by a foreign parent, and ownership of foreign affiliates; research and development; royalties and license fees for the use of intellectual property and manufacturing activities. In addition to the mailing of multi-location enterprises, the Census Bureau will collect data for single-location companies on Form NC-99007 to some large single-location enterprises that may have added some locations.

The 2013 COS will request company-level information from a selection of multi-establishment enterprises, which comprises roughly 42,000 parent companies and more than 1.4 million establishments. COS inquiries sent to each of the 42,000 multi-establishment enterprises will include inquiries on ownership or control by a domestic parent, ownership or control by a foreign parent, and ownership of foreign affiliates; research and development; company activities, such as—employees from a professional employer organization, operating revenue and net sales, royalties and license fees for the use of intellectual property, and manufacturing activities. Establishment inquiries include questions on operational status, mid-March employment, first-quarter payroll, and annual payroll of establishments.

In addition to the 42,000 multi-establishment enterprises, the 2013 COS will include approximately 5,000 single-location companies that may have added some locations. The NC-99007 Form will be used to collect data for the 5,000 single-location businesses.

The information collected by the COS is used to maintain and update the BR. The BR serves two fundamental purposes:

• First and most important, it provides sampling populations and enumeration lists for the Census Bureau's economic surveys and censuses, and it serves as an integral part of the statistical foundation underlying those programs. Essential for this purpose is the BR's ability to identify all known United States business establishments and their parent companies. Further, the BR must accurately record basic business attributes needed to control sampling and enumeration. These attributes include industry and geographic classifications, measures of size and economic activity, ownership characteristics, and contact information (for example, name and address).

• Second, it provides establishment data that serve as the basis for the annual County Business Patterns (CBP) statistical series. The CBP reports present data on number of establishments, first quarter payroll, annual payroll, and mid-March employment summarized by industry and employment size class for the United States, the District of Columbia, island areas, counties, and county-equivalents. No other annual or more frequent series of industry statistics provides comparable detail, particularly for small geographic areas.

Affected Public: Business or other for-profit; not-for-profit institutions; Farms; State, local or tribal governments.

Frequency: Annually.

Respondent's Obligation: Mandatory.

Legal Authority: Title 13 U.S.C., Sections 182, 195, 224, and 225.

OMB Desk Officer: Brian Harris-Kojetin, (202) 395-7314.

Copies of the above information collection proposal can be obtained by calling or writing Jennifer Jessup, Departmental Paperwork Clearance Officer, (202) 482-0336, Department of Commerce, Room 6616, 14th and Constitution Avenue NW., Washington, DC 20230 (or via the Internet at jjessup@doc.gov).

Written comments and recommendations for the proposed information collection should be sent within 30 days of publication of this notice to Brian Harris-Kojetin, OMB Desk Officer either by fax (202-395-7245) or email (bharrisk@omb.eop.gov).

Dated: August 5, 2013.
Glenna Mickelson,
Management Analyst, Office of the Chief Information Officer.

[FR Doc. 2013-19168 Filed 8-7-13; 8:45 am]

BILLING CODE 3510-07-P